DEPARTMENT OF HEALTH AND HUMAN SERVICES

Centers for Medicare & Medicaid Services

[CMS-4047-N]

Medicare Program; Risk Adjustment Training, June 3-4, 2002, Las Vegas, NV; June 6-7, 2002, St. Louis, MO; June 10-11, 2002, Philadelphia, PA; and June 13-14, 2002, Orlando, FL

AGENCY: Centers for Medicare & Medicaid Services (CMS), HHS.

ACTION: Notice.

SUMMARY: This notice announces risk adjustment training sessions that will provide Medicare+Choice (M+C) organization staff (technical, operations, and provider relations) with the necessary knowledge to improve the quality and quantity of risk adjustment data. The specific training objectives are to understand data and diagnosis coding requirements, risk score calculation, the submission process and schedule, and the new risk adjustment processing system. These training sessions will build on the overview provided at the January 16, 2002 public meeting held at CMS.

DATES: Training sessions are scheduled for the locations and dates listed below:

Las Vegas: Monday, June 3, 2002, Tuesday, June 4, 2002

St. Louis: Thursday, June 6, 2002, Friday, June 7, 2002

Philadelphia: Monday, June 10, 2002, Tuesday, June 11, 2002

Orlando: Thursday, June 13, 2002, Friday, June 14, 2002

ADDRESSES: The training sessions will be held at the addresses listed below:

Las Vegas: Harrah's Las Vegas Hotel & Casino, 3475 Las Vegas Boulevard South, Las Vegas, NV 89109

St. Louis: Radisson Hotel & Suites St. Louis Downtown, 200 North Fourth Street, St. Louis, MO 63102

Philadelphia: Crowne Plaza Philadelphia Center City, 1800 Market Street, Philadelphia, PA 19103

Orlando: Wyndham Orlando Resort, 8001 International Drive, Orlando, FL 32819

FOR FURTHER INFORMATION CONTACT: Kim Slaughter at (301) 519-5388 or e-mail your questions to encounterdata@aspensys.com.

SUPPLEMENTARY INFORMATION:

Background

The Balanced Budget Act of 1997 (BBA) (Pub. L. 105-33) established the Medicare+Choice (M+C) program that significantly expanded the health care options available to Medicare beneficiaries. Under the BBA, the Secretary of the Department of Health and Human Services (the Secretary) must implement a risk adjustment methodology that accounts for variations in per capita costs based on health status and other demographic factors for payment to M+C organizations. The BBA also gives the Secretary the authority to collect inpatient hospital data for discharges on or after July 1, 1997, and additional data for other services occurring on or after July 1, 1998. Risk adjustment implementation began January 1, 2000 based on the principal inpatient discharge diagnosis. Payments to M+C organizations are made at 10 percent risk adjusted rates and 90 percent demographically adjusted rates for years 2000 through 2003. The Medicare, Medicaid, and SCHIP Benefits Improvement and Protection Act (BIPA) of 2000, enacted on December 21, 2000, stipulates that the risk adjustment methodology for 2004 and succeeding years should be based on data from inpatient hospital and ambulatory settings. BIPA contains a provision that phases in future risk adjusted payments as follows: 30 percent in 2004; 50 percent in 2005; 75 percent in 2006; and 100 percent in 2007.

The collection of physician encounter data, which began on October 1, 2000, and hospital outpatient encounter data, which began on April 1, 2001, was suspended from May 25, 2001 through July 1, 2002. The Secretary suspended the submission of physician and hospital outpatient encounter data in May 2001 and directed us to develop a risk adjustment approach that balances payment accuracy with data burden. Since then, we have worked extensively with M+C organizations, their associations, and other interested parties to develop a risk adjustment approach that reduces the burden of data collection for M+C organizations by about 98 percent. We have reduced the burden by decreasing the number of data elements (from 50 to only 5 elements) to be submitted, only requiring submission of diagnoses that are needed for calculating payments, and creating a simplified data submission format and processing system. Submission of ambulatory risk adjustment data will resume on October 1, 2002 for dates of service beginning July 1, 2002. Instructions on this process will be provided to M+C organizations in April 2002. A new processing system will be operational on October 1, 2002 for all types of risk adjustment data (hospital inpatient, physician, and hospital outpatient).

We are announcing this training to provide individuals and M+C organizations an opportunity to obtain the necessary training to submit risk adjustment data accurately, timely, and in accordance with our requirements. The training objectives are to understand data coding and requirements, risk score calculation, the submission process and schedule, and the new risk adjustment processing system. The agenda will include presentations by our staff and Aspen Systems Corporation staff, and question-and-answer sessions.

The training will consist of the following topics:

• Background of risk adjustment methodology.

• Overview of the risk adjustment process.

• Data collection.

• Risk adjustment processing system file format.

• Risk adjustment processing system edits.

• Reports/error resolutions.

• Health plan management system overview.

A copy of the training agenda is available at: www.aspenxnet.com/meetingagenda.htm

This training is designed for M+C organization staff responsible for collection and submission of risk adjustment data, third party contractors that submit risk adjustment data on behalf of an M+C organization, and M+C provider training staff.

Registration

Registration for this training is required. Each training site has a limited number of spaces available for participants. Therefore, registration for M+C organizations is limited to two attendees for all locations and is on a first come, first served basis. M+C organization staff will receive priority registration consideration due to training space limitations. If an M+C organization has contracted with a third party to submit risk adjustment data and the third party wants to attend the training, indicate this information under “Type of Organization” on the registration form. A waiting list will be available for additional requests.

Registration can be completed via the Internet at the following Web site: www.aspenxnet.com/registration. A confirmation notice with additional training location information will be sent to attendees upon finalization of registration. Attendees will be responsible for the cost and arrangement of their own transportation, lodging, and meals.

Attendees will be provided with training materials at the time of the training. After the scheduled training sessions, materials will be available at www.hcfa.gov and www.cms.hhs.gov.

(Authority: Sections 1851 through 1859 of the Social Security Act (42 U.S.C. 1395w-21 through 1395w-28)).

Dated: April 23, 2002.
Thomas A. Scully,
Administrator, Centers for Medicare & Medicaid Services.

[FR Doc. 02-10322 Filed 4-25-02; 8:45 am]

BILLING CODE 4120-01-P